DEPARTMENT OF AGRICULTURE

Agricultural Marketing Service

[Doc. No. TM-06-11]

Notice of Meeting of the National Organic Standards Board

AGENCY: Agricultural Marketing Service, USDA.

ACTION: Notice.

SUMMARY: In accordance with the Federal Advisory Committee Act, as amended, the Agricultural Marketing Service (AMS) is announcing a forthcoming meeting of the National Organic Standards Board (NOSB).

DATES: The meeting dates are Tuesday, October 17, 2006, 9 a.m. to 5 p.m.; Wednesday, October 18, 2006, 8 a.m. to 5 pm; and Thursday, October 19, 2006, 8 a.m. to 12:30 p.m. Requests from individuals and organizations wishing to make an oral presentation at the meeting or to submit written comments to be posted on the website prior to the NOSB meeting, are due by the close of business on October 6, 2006.

ADDRESSES: The meeting will take place at The Radisson Hotel—Reagan National Airport, 2020 Jefferson Davis Highway, Arlington, VA 22202. Requests for copies of the NOSB meeting agenda, to make an oral presentation at the meeting, or to submit written comments may be sent to Ms. Valerie Frances, Executive Director, NOSB, USDA-AMS-TMD-NOP, 1400 Independence Avenue, SW., Room 4008-So., Ag Stop 0268, Washington, DC 20250-0268. These requests or comments may also be sent via facsimile to Ms. Valerie Frances at (202) 205-7808 or by electronic mail to Valerie.Frances@usda.gov.

FOR FURTHER INFORMATION CONTACT: Valerie Frances, Executive Director, NOSB, National Organic Program, (202) 720-3252.

SUPPLEMENTARY INFORMATION: Section 2119 (7 U.S.C. 6518) of the Organic Foods Production Act of 1990 (OFPA), as amended (7 U.S.C. 6501 et seq.) requires the establishment of the NOSB. The purpose of the NOSB is to make recommendations about whether a substance should be allowed or prohibited in organic production or handling, to assist in the development of standards for substances to be used in organic production, and to advise the Secretary on other aspects of the implementation of the OFPA. The NOSB met for the first time in Washington, DC, in March 1992, and currently has six committees working on various aspects of the organic program. The committees are: Compliance, Accreditation, and Certification; Crops; Livestock; Materials; Handling; and Policy Development.

In August of 1994, the NOSB provided its initial recommendations for the National Organic Program (NOP) to the Secretary of Agriculture. Since that time, the NOSB has submitted 101 addenda to its recommendations and reviewed more than 269 substances for inclusion on the National List of Allowed and Prohibited Substances. The last meeting of the NOSB was held on April 19-20, 2006, in State College, PA.

The Department of Agriculture (USDA) published its final National Organic Program regulation in the Federal Register on December 21, 2000, (65 FR 80548). The rule became effective April 21, 2001.

The principal purposes of the meeting are to provide an opportunity for the NOSB to receive an update from the USDA/NOP and hear progress reports from NOSB committees regarding work plan items and proposed action items.

The Policy Development Committee will present recommendations regarding revisions to the NOSB Policy and Procedures Manual and discuss the development of a guide for new NOSB members. The Policy Development and Crops Committees will provide an update and will discuss issues regarding the development of a recommendation on temporary variances allowed for certified organic research facilities for products not to be marketed as organic.

The Crops Committee will present recommendations regarding guidance for the use of compost tea, vermiculture and dehydrated manure, and on petitioned materials: lime mud, sodium lauryl sulfate, sulfuric acid (to stabilize dehydrated manures), and calcium chloride. The Crops Committee will discuss issues related to public comments received concerning commercial availability requirements for the use of certified organic seed on certified organic farms. In addition, the Committee will provide an update to their work on developing guidance for the certification of hydroponic crops.

The Materials and Handling Committees will present a joint recommendation on determining when a product is agricultural versus nonagricultural. These same committees will also discuss their work to clarify the definitions of materials on the National List.

The Handling Committee will present a recommendation that will specify criteria necessary to facilitate determinations related to the commercial availability of organic agricultural ingredients. The Committee will also present, in closure of its review of the first sunset of substances under the requirements of the OFPA, a recommendation to remove colors from the National List and a recommendation to affirm their removal of bleached lecithin from the National List. The Committee will receive the report of the Pet Food Task Force regarding their efforts to draft standards for organic pet food. In addition, the Committee will discuss the status of materials petitioned for use in handling .

The Livestock Committee will invite public input on issues regarding the development of organic aquaculture (finfish) standards.

The Compliance, Accreditation, and Certification Committee (CACC) will present recommendations to address questions and answers regarding the labeling of certified organic products of retailers and private labelers. The CACC will present recommendations that address the standardization of information required on organic certificates, the addition of an expiration date, and procedures for managing expiration dates on certificates. Finally, the CACC will discuss future Peer Review Procedures.

Copies of the NOSB meeting agenda and additional information can be requested from Ms. Valerie Frances by telephone at (202) 720-3252; or by accessing the NOP Web site at http://www.ams.usda.gov/nop.

The Meeting is Open to the Public. The NOSB has scheduled time for public input for Tuesday, October 17, 2006, from 11 a.m. to 12 p.m. and from 1 p.m. to 5 p.m., and Wednesday, October 18, 2006, from 1:45 p.m. to 5 p.m. Individuals and organizations wishing to make an oral presentation at the meeting may forward their request by mail, facsimile, or e-mail to Valerie Frances at addresses listed in ADDRESSES above. Individuals or organizations will be given approximately 5 minutes to present their views. All persons making an oral presentation are requested to provide their comments in writing. Written submissions may contain information other than that presented at the oral presentation. Written comments may also be submitted at the meeting. Persons submitting written comments at the meeting are asked to provide 30 copies.

Interested persons may visit the NOSB portion of the NOP Web site http://www.ams.usda.gov/nop to view available documents prior to the meeting. Approximately 6 weeks following the meeting interested persons will be able to visit the NOSB portion of the NOP Web site to view documents from the meeting.

Dated: September 25, 2006.
Kenneth C. Clayton,
Associate Administrator, Agricultural Marketing Service.

[FR Doc. 06-8419 Filed 9-29-06; 8:45 am]

BILLING CODE 3410-02-P